DEPARTMENT OF AGRICULTURE

Grain Inspection, Packers and Stockyards Administration

Advisory Committee Meeting

AGENCY: Grain Inspection, Packers and Stockyards Administration, USDA.

ACTION: Notice of advisory committee meeting.

SUMMARY: Pursuant to the Federal Advisory Committee Act, this constitutes notice of the upcoming meeting of the Grain Inspection, Packers and Stockyards Administration (GIPSA) Grain Inspection Advisory Committee (Advisory Committee). The Advisory Committee meets annually to advise the GIPSA Administrator on the programs and services that GIPSA delivers under the U.S. Grain Standards Act. Recommendations by the Advisory Committee help GIPSA better meet the needs of its customers who operate in a dynamic and changing marketplace.

DATES: May 17, 2016, 8:00 a.m. to 4:30 p.m.; and May 18, 2016, 8:00 a.m. to noon.

ADDRESSES: The Advisory Committee meeting will take place at GIPSA's National Grain Center, 10383 N. Ambassador Drive, Kansas City, Missouri 64153.

Requests to orally address the Advisory Committee during the meeting or written comments may be sent to: Administrator, GIPSA, U.S. Department of Agriculture, 1400 Independence Avenue SW., STOP 3601, Washington, DC 20250-3601. Requests and comments may also be faxed to (202) 690-2173.

FOR FURTHER INFORMATION CONTACT: Terri L. Henry by phone at (202) 205-8281 or by email at Terri.L.Henry@usda.gov.

SUPPLEMENTARY INFORMATION: The purpose of the Advisory Committee is to provide advice to the GIPSA Administrator with respect to the implementation of the U.S. Grain Standards Act (7 U.S.C. 71-87k). Information about the Advisory Committee is available on the GIPSA Web site at http://www.gipsa.usda.gov/fgis/adcommit.html.

The agenda will include service delivery overview and the grain standards act, quality assurance and compliance updates, field management overview, international program updates as they relate to outreach, and technology and science initiatives.

For a copy of the agenda please contact Terri L. Henry by phone at (202) 205-8281 or by email at Terri.L.Henry@usda.gov.

Public participation will be limited to written statements unless permission is received from the Committee Chairperson to orally address the Advisory Committee. The meeting will be open to the public.

Persons with disabilities who require alternative means of communication of program information or related accommodations should contact Terri L. Henry at the telephone number listed above.

Larry Mitchell,
Administrator, Grain Inspection, Packers and Stockyards Administration.

[FR Doc. 2016-07004 Filed 3-28-16; 8:45 am]

BILLING CODE 3410-KD-P